DEPARTMENT OF TRANSPORTATION

Surface Transportation Board

[Finance Docket No. 34060]

Midwest Generation, LLC—Exemption from 49 U.S.C. 10901—for Construction in Will County, IL

AGENCY: Surface Transportation Board, DOT.

ACTION: Notice of availability of environmental assessment and request for comments.

SUMMARY: Midwest Generation, LLC (Midwest) has petitioned the Surface Transportation Board (Board) for authority to construct a rail line approximately 4,007 feet in length in Will County, Illinois to provide an alternate route for rail access to the Joliet Generating Station in Joliet, Illinois. The Board's Section of Environmental Analysis (SEA) has prepared an environmental assessment (EA) for this project. Based on the information provided and the environmental analysis conducted to date, the EA preliminarily concludes that this proposal should not significantly affect the quality of the human environment if the recommended mitigation measures set forth in the EA are implemented. Accordingly, SEA recommends that, if the Board approves this project, Midwest be required to implement the mitigation set forth in the EA. Copies of the EA have been served on all interested parties and will be made available to additional parties upon request. SEA will consider all comments received when making its final environmental recommendations to the Board. The Board will then consider SEA's final recommendations and the complete environmental record in making its final decision in this proceeding.

DATES: The EA is available for public review and comment. Comments are due by May 10, 2002.

ADDRESSES: Comments (an original and 10 copies) regarding this EA should be submitted in writing to: Section of Environmental Analysis, Surface Transportation Board, 1925 K Street, NW., Washington, DC 20423, to the attention of Rini Ghosh.

FOR FURTHER INFORMATION CONTACT: Rini Ghosh, (202) 565-1539 (TDD for the hearing impaired (1-800-877-8339)). To obtain a copy of the EA, contact Da-2-Da Legal Copy Service, Suite 405, 1925 K Street, NW, Washington, DC 20006, phone (202) 293-7776 or visit the Board's website at “www.stb.dot.gov'.

By the Board, Victoria Rutson, Chief, Section of Environmental Analysis.
Vernon A. Williams,
Secretary.

[FR Doc. 02-8940 Filed 4-11-02; 8:45 am]

BILLING CODE 4915-00-P